FEDERAL ELECTION COMMISSION

Sunshine Act Meeting

AGENCY: FEDERAL ELECTION COMMISSION.

DATE AND TIME: TUESDAY MAY 19, 2015 AT 10:00 a.m. AND THURSDAY, MAY 21, 2015 AT THE CONCLUSION OF THE OPEN MEETING.

PLACE: 999 E STREET NW., WASHINGTON, DC.

STATUS: THIS MEETING WILL BE CLOSED TO THE PUBLIC.

ITEMS TO BE DISCUSSED: Compliance matters pursuant to 52 U.S.C. 30109 (formerly 2 U.S.C. 437g). Matters concerning participation in civil actions or proceedings or arbitration. Information the premature disclosure of which would be likely to have a considerable adverse effect on the implementation of a proposed Commission action.

* * * * *

PERSON TO CONTACT FOR INFORMATION: Judith Ingram, Press Officer, Telephone: (202) 694-1220.

Shelley E. Garr,
Deputy Secretary of the Commission.

[FR Doc. 2015-11832 Filed 5-12-15; 4:15 pm]

BILLING CODE 6715-01-P